DEPARTMENT OF LABOR

Employment and Training Administration

[TA-W-63,623]

Best Textiles International Ltd., Formerly Known as Best: Artex LLC, Highland, IL; Notice of Termination of Investigation

Pursuant to Section 221 of the Trade Act of 1974, as amended, an investigation was initiated on June 30, 2008, in response to a worker petition filed on behalf of workers of Best Textiles International Ltd., Highland, Illinois.

Workers of Best: Artex LLC, Highland, Illinois, were certified eligible to apply for trade adjustment assistance under petition number TA-W-61,393, expiring on May 24, 2009. This certification was amended on July 9, 2008, to include workers whose wages were reported under the corporate name of Best Textiles International Ltd., Highland, Illinois, the subject of this investigation.

Since the petitioning group of workers is covered by an active certification, (TA-W-61,393, amended), further investigation in this case would serve no purpose, and the investigation has been terminated.

Signed at Washington, DC, this 16th day of July 2008.
Linda G. Poole,
Certifying Officer, Division of Trade Adjustment Assistance.

[FR Doc. E8-17127 Filed 7-25-08; 8:45 am]

BILLING CODE 4510-FN-P